DEPARTMENT OF TRANSPORTATION

Federal Highway Administration

National Intelligent Transportation Systems (ITS) Architecture; New User Service Procedure

AGENCY: Federal Highway Administration (FHWA), Department of Transportation (DOT).

ACTION: Notice.

SUMMARY: The purpose of this notice is to announce that the U.S. Department of Transportation, through the ITS Joint Program Office (JPO), has developed a procedure for the introduction and integration of a new user service into the National ITS Architecture, as well as other significant changes encompassing several existing user services in the National ITS Architecture . This procedure will aid stakeholders in determining how to articulate their transportation needs for integration into the National ITS Architecture. Additionally, this procedure will increase public awareness of the incorporation process and will enable all interested parties to participate in the user service integration into the National ITS Architecture.

FOR FURTHER INFORMATION CONTACT: For information on the National ITS Architecture User Service Procedure: Mr. Lee Simmons, (202) 366-8048, ITS Joint Program Office (HOIT-1). For Legal Questions: Ms. Gloria Hardiman-Tobin, (202) 366-1397, Office of the Chief Counsel (HCC-40). Office hours are from 7:45 a.m. to 4:15 p.m., e.t., Monday through Friday, except Federal Holidays.

SUPPLEMENTARY INFORMATION:

Electronic Access

An electronic copy of this document may be downloaded by using a computer, modem and suitable communications software from the Government Printing Office's Electronic Bulletin Board Service at (202) 512-1661. Internet users may reach the Office of the Federal Register's home page at: http://www.nara.gov/fedreg and the Government Printing Office's web site at: http://www.access.gpo.gov/nara.

The entire National ITS Architecture may be reviewed and retrieved from the ITS web site: http://www.its.dot.gov. Follow the available link to Architecture.

Background

The National ITS Architecture provides a common framework for planning, defining, and integrating intelligent transportation systems. This common framework represents the starting point for more detailed regional and/or project architectures in which local characteristics are more appropriately addressed. The scope of the National ITS Architecture is defined by a set of user services. Each user service represents the most common activities and operations that transportation stakeholders perform to sustain efficient and safe travel.

The National ITS Architecture began as a program in 1993 to incorporate the 29 user services that were defined in the National ITS Program Plan. That stakeholder-based consensus effort was completed in 1996. Since that time, three new user services have been defined as follows: Highway Rail Intersection User Service was incorporated into the National ITS Architecture in January 1997, Archived Data User Service was incorporated into the current version (version 3.0) of the National ITS Architecture in December 1999, and the Maintenance and Construction Operations User Service, published in the Federal Register on April 18, 2001, at 66 FR 20026, has been defined and is in the process of being incorporated into the National ITS Architecture. The stakeholders involved represent a broad cross section of the ITS, construction, and maintenance communities, including transportation practitioners, systems engineers, system developers, technology specialists, and consultants.

The National ITS Architecture describes, for each of the user services, the functions required to perform the services, and the key interfaces required to perform these functions.

The current set of user services can be grouped into the following categories:

1. Travel and Traffic Management;

2. Public Transportation Management;

3. Electronic Payment;

4. Commercial Vehicle Operations;

5. Emergency Management;

6. Advanced Vehicle Safety Systems;

7. Information Management; and

8. Maintenance and Construction Management.

The DOT recognizes that the current set of 32 user services do not cover all possible aspects of transportation systems, and there could be additions made to enhance the National ITS Architecture or to add new user services. Because the National ITS Architecture is a consensus architecture, the DOT would like to encourage continued involvement by the stakeholder community that best understands the need for enhancing the National ITS Architecture.

The following paragraphs describe a procedure for the development of a new user service and the introduction and integration of this new user service into the National ITS Architecture. It may also be used for a significant change cutting across a number of existing user services that does not call for the specific addition of a new user service. The procedure is not intended to be all-encompassing, nor is it intended to be restrictive. It should serve only as a guide to stakeholders who are interested in amending the National ITS Architecture to incorporate additional transportation practices and activities that are not currently reflected.

National ITS Architecture New User Service Procedure

The procedure consists of two phases. Phase one of the procedure is the principal responsibility of the stakeholder community and involves addressing its transportation system needs, formalizing them in an acceptable user service, and securing acceptance for integration into the National ITS Architecture. Phase two of the procedure is the principal responsibility of the ITS JPO and involves its actions to integrate the user service into the National ITS Architecture, coordinate its activities with the stakeholders, and ensure that the final product has stakeholder consensus and support. In both phases, it is necessary to engage in public outreach activities to ensure adequate awareness among the stakeholder and ITS communities and to offer the opportunity for them to participate.

Phase I

a. The first step is for the interested group of stakeholders to determine their collective concerns. Although it is not required, there are three sources of advocacy where the stakeholders may go for advice before proceeding. They are the ITS JPO, the applicable office or modal administration in the DOT, and ITS America. Voicing stakeholder concerns to an advocate should lead to a partnership and understanding of these concerns, and a better stakeholder understanding of the process to cause the National ITS Architecture to be modified.

b. The second step is for the stakeholders to review Volume II of the “National ITS Program Plan, Intelligent Transportation Systems”.¹ This volume describes each of the 29 original user services. The 30th and 31st user services, addressing highway-rail intersection and archived data, have been separately developed and approved, and have been added to the appendix of the “National Intelligent Transportation Systems Program Plan, Five-Year Horizon.” ² The description of the “Maintenance and Construction Operations User Service” represents the 32nd user service that is now being incorporated into the National ITS Architecture.³ The review of these three documents enables the stakeholders to better understand the user needs currently addressed by the National ITS Architecture and how they are described. If their current needs are not satisfied in the three plans, then the stakeholders may choose to propose actions to add a newly defined user service to the National ITS Architecture.

¹ Volume II of the National ITS Program Plan, Intelligent Transportation Systems, dated March 1995 is available at the following URL: http://www.itsdocs.fhwa.dot.gov/jpodocs/repts_pr/2×601!.pdf

² The National Intelligent Transportation Systems Program Plan, Five-Year Horizon, dated August 2000, is available at the following URL: http://www.itsdocs.fhwa.dot.gov/jpodocs/repts_pr/97r01!.pdf²

³ The Maintenance and Construction Operations User Service is available at the following URL: http://www.itsdocs.fhwa.dot.gov/jpodocs/repts_pr/13465.pdf

At this point, the ITS JPO, in conjunction with other modal administrations as appropriate, will make a decision regarding the appropriateness and viability of the proposed new user service. If the decision is to proceed, there will be a notification to the broader transportation community of the intent to modify the National ITS Architecture in response to stakeholder concerns. This can be accomplished through a notice in the Federal Register; press releases to other print media; notices posted on the ITS DOT and ITS America websites; ⁴ notification to specific transportation committees including those of the Transportation Research Board (TRB), the Institute of Transportation Engineers (ITE), the American Association of State Highway Transportation Officials (AASHTO), and the American Public Transportation Association (APTA); and notification to appropriate ITS America technical committees and task forces.

⁴ The URLs for the following web sites are provided: ITS JPO: http://www.its.dot.gov; National ITS Architecture: http://www.its.dot.gov/arch/arch.htm; ITS America: http://www.itsa.org

After reviewing the proposal for a new user service, the ITS JPO may determine that a new user service is not needed as the problem may be addressed by amending and/or modifying the existing user services. If they are not significant, recommendations in these areas should be forwarded to the ITS JPO for subsequent disposition and National ITS Architecture modification. If they are significant and cut across a number of existing user services, the same steps outlined below may be followed.

c. The third step is for the stakeholders to identify their specific transportation needs. It should be noted that the National ITS Architecture is a consensus architecture, and no individual or small group of persons will be able to change it without the full consent of the larger stakeholder community.

d. The fourth step is the development of the user service which will become an addendum to Volume II of the National ITS Program Plan, Intelligent Transportation Systems (see footnote 1) or an appendix to the National ITS Program Plan, Five-Year Horizon (see footnote 2). The definition of the new user service follows the general format shown in Volume II of the National ITS Program Plan, Intelligent Transportation Systems, and thus may require assistance from one of the advocacy sources. Prior to completing development, it is suggested that public outreach similar to the second step of Phase I be used again to invite reviews of the draft user service from within the known stakeholder community, as well as from the broader ITS community.

e. The fifth step is an ITS screening process used by the ITS JPO, working in conjunction with other modal administrations as appropriate. This entails a review of the definition of ITS to ensure that the user service improves the availability, efficiency, and safety of operations of the transportation system. The screening process also ensures that the user service is consistent with the goals of integration and standardization. The ITS JPO will make the appropriate changes to the draft user service to ensure that its scope is consistent with the other user services.

f. The final step in Phase I is for the ITS JPO, with formal advice from ITS America, to determine whether or not to accept and include the completed user service into the National ITS Program Plan or the National ITS Five-Year Program Plan. Once accepted by the ITS JPO, the user service will be incorporated into the National ITS Architecture.

Phase II

a. The first step is for the ITS JPO to coordinate the revision of the National ITS Architecture that will satisfy the intent of the stakeholder community.

b. The second step is to develop a milestone schedule that includes a kickoff meeting and interim program review(s) to engage representatives of the stakeholder community, address the user service, and begin a formal National ITS Architecture integration effort.

At this stage, it is appropriate to invite a group of stakeholders who, where possible, will be involved in the kickoff meeting and each of the reviews to lend continuity and understanding to the overall effort and to ensure stakeholder concerns and needs are met. This will require an outreach effort prior to the kickoff meeting, again similar to the second step in Phase I.

c. The third step is to integrate the new user service into the National ITS Architecture. In addition to the technical work, the effort involves program reviews, and the possibility of outreach meetings with selected members of the stakeholder community.

d. The fourth step is to render a final report to the stakeholder community representatives by the ITS JPO. This is a brief oral report highlighting the changes and indicating that the integration effort is complete.

e. The final step is to post the changed National ITS Architecture on the ITS JPO and National ITS Architecture websites and to release the next version of the National ITS Architecture on CD-ROM, if appropriate.

There will be an outreach effort to announce the change and new version of the National ITS Architecture through the same media used previously. Phase II of the ITS JPO integration activities should be accomplished within 6 to 9 months, depending upon the detail and complexity of the new user service.

Authority: 23 U.S.C. 101, 106, 109 ,133, 315, and 508; sec 5206(e), Pub. L. 105-178,112 Stat. 457 (23 U.S.C. 502 note); and 49 CFR 1.48.

Issued on: July 12, 2001.
Christine M. Johnson,
Program Manager, Operations Director, ITS Joint Program Office.

[FR Doc. 01-18246 Filed 7-20-01; 8:45 am]

BILLING CODE 4910-22-P